DEPARTMENT OF ENERGY

Federal Energy Regulatory Commission

Combined Notice of Filings #1

August 21, 2007.

Take notice that the Commission received the following electric corporate filings:

Docket Numbers: EC07-45-002.

Applicants: Morgan Stanley.

Description: Morgan Stanley responds to FERC's informal request for information concerning the 12/29/06 Application for Blanket Authorization to Acquire and Sell Securities.

Filed Date: August 15, 2007.

Accession Number: 20070821-0155.

Comment Date: 5 p.m. Eastern Time on Wednesday, August 29, 2007.

Take notice that the Commission received the following electric rate filings:

Docket Numbers: ER98-4109-002.

Applicants: El Dorado Energy, LLC.

Description: El Dorado Energy, LLC submits an updated market power analysis and revisions to its FERC Electric Tariff, Original Volume 1.

Filed Date: August 16, 2007.

Accession Number: 20070820-0143.

Comment Date: 5 p.m. Eastern Time on Thursday, September 6, 2007.

Docket Numbers: ER01-2508-003.

Applicants: ENMAX Energy Marketing, Inc.

Description: ENMAX Energy Marketing, Inc. submits its triennial market power analysis update in support of the continuation of its market-based rate authority.

Filed Date: August 17, 2007.

Accession Number: 20070821-0056.

Comment Date: 5 p.m. Eastern Time on Friday, September 7, 2007.

Docket Numbers: ER02-2263-008.

Applicants: Southern California Edison Company.

Description: Southern California Edison submits a notice of change in status.

Filed Date: August 16, 2007.

Accession Number: 20070820-0141.

Comment Date: 5 p.m. Eastern Time on Thursday, September 6, 2007.

Docket Numbers: ER03-198-008.

Applicants: Pacific Gas and Electric Company.

Description: Amended Notice of Change in Status of Pacific Gas and Electric Co.

Filed Date: August 21, 2007.

Accession Number: 20070821-5015.

Comment Date: 5 p.m. Eastern Time on Tuesday, September 11, 2007.

Docket Numbers: ER07-799-003; EL07-61-002.

Applicants: Norwalk Power LLC.

Description: Norwalk Power, LLC submits its revised Reliability Must-Run Agreement in compliance with FERC's 7/16/07 Order.

Filed Date: August 15, 2007.

Accession Number: 20070820-0027.

Comment Date: 5 p.m. Eastern Time on Wednesday, September 5, 2007.

Docket Numbers: ER07-1085-001.

Applicants: Niagara Mohawk Power Corporation.

Description: Niagara Mohawk submits the non-redacted version of the Fulton Cogen Agreement.

Filed Date: August 17, 2007.

Accession Number: 20070821-0057.

Comment Date: 5 p.m. Eastern Time on Friday, September 7, 2007.

Docket Numbers: ER07-1199-000.

Applicants: Airtricity Munnsville Wind Farm, LLC.

Description: Airtricity Munnsville Wind Farm, LLC submits an errata to correct the inadvertent pagination of its initial rate schedule FERC Electric Tariff Original Volume 1.

Filed Date: August 16, 2007.

Accession Number: 20070820-0063.

Comment Date: 5 p.m. Eastern Time on Tuesday, August 28, 2007.

Docket Numbers: ER07-1289-000.

Applicants: ISO New England Inc.

Description: Participating Transmission Owners submits proposed revisions to the ISO New England Open Access Transmission Tariff and the Transmission Operating Agreement.

Filed Date: August 16, 2007.

Accession Number: 20070820-0160.

Comment Date: 5 p.m. Eastern Time on Thursday, September 6, 2007.

Docket Numbers: ER07-1290-000.

Applicants: Mid-Continent Area Power Pool.

Description: Mid-Continent Area Power Pool submits seventeen non-conforming service agreements for reassignment of non-firm transmission service and requests waiver of the Commission's filing requirements.

Filed Date: August 16, 2007.

Accession Number: 20070820-0144.

Comment Date: 5 p.m. Eastern Time on Thursday, September 6, 2007.

Docket Numbers: ER07-1291-000.

Applicants: PacifiCorp.

Description: PacifiCorp submits revisions to its Open Access Transmission Tariff, effective 7/13/07 pursuant to Order 890.

Filed Date: August 17, 2007.

Accession Number: 20070820-0148.

Comment Date: 5 p.m. Eastern Time on Friday, September 7, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Acting Deputy Secretary.

[FR Doc. E7-16970 Filed 8-28-07; 8:45 am]

BILLING CODE 6717-01-P